DEPARTMENT OF THE INTERIOR

National Park Service

[NPS-WASO-NAGPRA-NPS0039481; PPWOCRADN0-PCU00RP14.R50000]

Notice of Intended Disposition: U.S. Department of Agriculture, Forest Service, Shawnee National Forest, Harrisburg, IL

AGENCY: National Park Service, Interior.

ACTION: Notice.

SUMMARY: In accordance with the Native American Graves Protection and Repatriation Act (NAGPRA), the Shawnee National Forest intends to carry out the disposition of human remains removed from Federal or Tribal lands to the lineal descendants, Indian Tribe, or Native Hawaiian organization with priority for disposition in this notice.

DATES: Disposition of the human remains in this notice may occur on or after April 17, 2025. If no claim for disposition is received by March 18, 2026, the human remains in this notice will become unclaimed human remains.

ADDRESSES: Heather Carey, Heritage Program Manager/Tribal Liaison, Shawnee National Forest, 501 N Main Street, Jonesboro, IL 62952, telephone (618) 833-8576 Ext. 104, email heather.carey@usda.gov.

SUPPLEMENTARY INFORMATION: This notice is published as part of the National Park Service's administrative responsibilities under NAGPRA. The determinations in this notice are the sole responsibility of the Shawnee National Forest, and additional information on the human remains in this notice, including the results of consultation, can be found in the related records. The National Park Service is not responsible for the identifications in this notice.

Abstract of Information Available

Based on the information available, human remains representing at least five individuals have been reasonably identified. No associated funerary objects are present. The remains consist of one individual removed from 11J822 in 1998, one individual removed from 11J1217,11J1218, or 11J1219 in 1991, one individual removed from 11J1219 in 1991, one individual removed from 11J980 in 1991, and one individual removed from 11J1348 in 2019 from Jackson County, Illinois.

Based on the information available, human remains representing at least four individuals have been reasonably identified. No associated funerary objects are present. The remains consist of one individual removed from 11PP3 in 1997, one individual removed from 11PP199 in 2000, and two individuals removed from 11PP1019 in 1992 from Pope County, Illinois.

Based on the information available, human remains representing at least one individual have been reasonably identified. No associated funerary objects are present. The remains consist of one individual removed from 11JS89 in 1991 from Johnson County, Illinois.

Determinations

The Shawnee National Forest has determined that:

• The human remains described in this notice represent the physical remains of 10 individuals of Native American ancestry.

• The Absentee Shawnee Tribe of Indians of Oklahoma; Delaware Tribe of Indians; Eastern Shawnee Tribe of Oklahoma; Miami Tribe of Oklahoma; Peoria Tribe of Indians of Oklahoma; Quapaw Nation; Shawnee Tribe; and The Osage Nation have priority for disposition of the human remains described in this notice.

Claims for Disposition

Written claims for disposition of the human remains in this notice must be sent to the appropriate official identified in this notice under ADDRESSES. If no claim for disposition is received by March 18, 2026, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after April 17, 2025. If competing claims for disposition are received, the Shawnee National Forest must determine the most appropriate claimant prior to disposition. Requests for joint disposition of the human remains are considered a single request and not competing requests. The Shawnee National Forest is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: February 4, 2025.
Melanie O'Brien,
Manager, National NAGPRA Program.

[FR Doc. 2025-04369 Filed 3-17-25; 8:45 am]

BILLING CODE 4312-52-P